BUREAU OF CONSUMER FINANCIAL PROTECTION

[Docket No. CFPB-2015-0007]

Partial Extension of Comment Deadline on CARD Act Request for Information

AGENCY: Bureau of Consumer Financial Protection.

ACTION: Notice; extension of comment period.

SUMMARY: Section 502(a) of the Credit Card Accountability Responsibility and Disclosure Act of 2009 (CARD Act or Act) requires the Bureau of Consumer Financial Protection (Bureau or CFPB) to conduct a review (Review) of the consumer credit card market, within the limits of its existing resources available for reporting purposes. In connection with conducting that Review, and in accordance with Section 502(b) of the CARD Act, the Bureau published a Request for Information in the Federal Register on March 19, 2015, soliciting from the public comment on a number of aspects of the consumer credit card market. The Request for Information provided a 60-day comment period that will end on May 18, 2015. To allow interested persons additional time to consider and submit their responses, the Bureau has determined that an extension of the comment period on four of the specific areas of interest noted in the original Request for Information—online disclosures, grace periods, add-on products, and debt collection—until June 17, 2015, is appropriate.

DATES: The comment period for the Request for Information Regarding Credit Card Market, published March 19, 2015, at 80 FR 14365, is extended with respect to four areas of interest. Responses on those areas of interest specifically extended must now be received on or before June 17, 2015; the deadline for responses on all other areas remains unchanged.

ADDRESSES: You may submit comments, identified by Docket No. CFPB-2015-0007, by any of the following methods:

• Electronic: http://www.regulations.gov. Follow the instructions for submitting comments.

• Mail: Monica Jackson, Office of the Executive Secretary, Consumer Financial Protection Bureau, 1700 G Street NW., Washington, DC 20552.

• Hand Delivery/Courier: Monica Jackson, Office of the Executive Secretary, Consumer Financial Protection Bureau, 1275 First Street NE., Washington, DC 20002.

Instructions: All submissions should include the agency name and docket number for this proposal. Because paper mail in the Washington, DC area and at the Bureau is subject to delay, commenters are encouraged to submit comments electronically. In general, all comments received will be posted without change to http://www.regulations.gov. In addition, comments will be available for public inspection and copying at 1275 First Street NE., Washington, DC 20002, on official business days between the hours of 10 a.m. and 5 p.m. eastern standard time. You can make an appointment to inspect the documents by telephoning (202) 435-7275.

All comments, including attachments and other supporting materials, will become part of the public record and subject to public disclosure. Sensitive personal information, such as account numbers or social security numbers, should not be included. Comments generally will not be edited to remove any identifying or contact information.

FOR FURTHER INFORMATION CONTACT: For general inquiries, submission process questions, or any additional information, please contact Monica Jackson, Office of the Executive Secretary, 202-435-7275.

SUPPLEMENTARY INFORMATION: On March 19, 2015, the Bureau published the Request for Information in the Federal Register, 80 FR 14365. The Request for Information seeks comment, data, and information from the public on the state of the credit card market, both generally and specifically to 12 issues and areas specifically identified by the Bureau.

Since publication, the Bureau has received multiple requests for extension of the comment deadline. While the Bureau believes the initial deadline should provide sufficient time for the public to comment on these matters, it wants to ensure that all interested parties are able to provide information and insight to the Bureau as it seeks greater understanding of the credit card market.

The Bureau wants to balance interested parties' desire to have additional time to consider the issues raised in the Request for Information, gather data, and prepare their responses, with the need to proceed expeditiously to consider comments. By extending the comment period for certain issues, the Bureau believes that it is effectively striking that balance. The Bureau believes that a 30-day extension on four of the twelve issues raised in the Request for Information—online disclosures, grace periods, add-on products, and debt collection—is appropriate, as these questions focus on particular areas of potential policy concern and may require additional time to respond. The comment period for those four issues will therefore close on June 17, 2015; the deadline for comments on all other areas and issues remains unchanged.

Dated: May 5, 2015.
Christopher A. D'Angelo,
Chief of Staff, Bureau of Consumer Financial Protection.

[FR Doc. 2015-11496 Filed 5-12-15; 8:45 am]

BILLING CODE 4810-AM-P